DEPARTMENT OF THE INTERIOR

Fish and Wildlife Service

50 CFR Part 17

RIN 1018-AF49

Endangered and Threatened Wildlife and Plants; Final Rule To List the Tibetan Antelope as Endangered Throughout Its Range

AGENCY: Fish and Wildlife Service, Interior.

ACTION: Final rule.

SUMMARY: We, the U.S. Fish and Wildlife Service (Service), determine that the classification of the Tibetan antelope (Pantholops hodgsonii) as endangered throughout its range is warranted, pursuant to the Endangered Species Act of 1973, as amended (Act, 16 U.S.C. 1531 et seq.). The best available information indicates that the total population of Tibetan antelope has declined drastically over the past three decades such that it is in danger of extinction throughout all or a significant portion of its range. This decline has resulted primarily from overutilization for commercial purposes and the inadequacy of existing regulatory mechanisms. Habitat impacts, especially those caused by domestic livestock grazing, appear to be a contributory factor in the decline, and could have potentially greater impacts in the near future. Accordingly, we are listing the Tibetan antelope as endangered, pursuant to the Act.

DATES: This rule is effective April 28, 2006.

ADDRESSES: The complete supporting file for this rule is available for public inspection, by appointment, during normal business hours at the Division of Scientific Authority, U.S. Fish and Wildlife Service, 4401 N. Fairfax Drive, Room 750, Arlington, Virginia 22203.

FOR FURTHER INFORMATION CONTACT: Robert R. Gabel, Chief, Division of Scientific Authority, at the above address; or by telephone, 703-358-1708; fax, 703-358-2276; or e-mail, ScientificAuthority@fws.gov.

SUPPLEMENTARY INFORMATION:

Background

The Tibetan antelope (Pantholops hodgsonii sensu Wilson and Reeder 1993) is a medium-sized bovid endemic to the Tibetan Plateau in China (Tibet Autonomous Region, Xinjiang—Uygur Autonomous Region, and Qinghai Province) and small portions of India (Ladakh) and western Nepal (although there is no evidence that they still occur in Nepal). The Tibetan antelope is also known by its Tibetan name “chiru.”

Adult males are characterized by long, slender, antelope-like black horns. Although the Tibetan antelope has been placed in the subfamily Antilopinae, recent morphological and molecular research indicates that it is most closely allied to the goats and other members of the subfamily Caprinae (Gentry 1992; Gatesy et al. 1992; both cited in Ginsberg et al. 1999). The species is uniquely adapted to the high elevation and cold, dry climate of the Tibetan Plateau (Schaller 1998). Seasonal migrations constitute a critical aspect of the Tibetan antelope's ecology and help define its ecosystem as a whole. The sexes segregate almost completely during the spring and early summer (May and June), when adult females and their female young migrate north to calving grounds. They return south by late July or early August, covering distances up to 300 kilometers (km) each way (Schaller 1998).

Previous Federal Action

Section 4(b)(3)(A) of the Act requires the Service to make a finding known as a “90-day finding” on whether a petition to list, delist, or reclassify a species has presented substantial information indicating that the requested action may be warranted. To the maximum extent practicable, the finding shall be made within 90 days following receipt of the petition and published promptly in the Federal Register. If the 90-day finding is positive (i.e., the petition has presented substantial information indicating that the requested action may be warranted), Section 4(b)(3)(A) of the Act requires the Service to commence a status review of the species if one has not already been initiated under the Service's internal candidate assessment process. In addition, Section 4(b)(3)(B) of the Act also requires the Service to make a finding within 12 months following receipt of the petition on whether the requested action is warranted, not warranted, or warranted but precluded by higher-priority listing actions (this finding is referred to as the “12-month finding”). The 12-month finding is also to be published promptly in the Federal Register. On October 6, 1999, the Service received a petition from the Wildlife Conservation Society (Joshua R. Ginsberg, Ph.D., Director, Asia Program, and George B. Schaller, Ph.D., Director of Science) and the Tibetan Plateau Project of Earth Island Institute (Justin Lowe, Director) requesting that the Tibetan antelope be listed as endangered throughout its entire range. The petition was actually dated October 7, 1999, but was received via electronic mail the previous day. On April 14, 2000, the Service made a positive 90-day finding on the Wildlife Conservation Society—Tibetan Plateau Project petition (i.e., the Service found that the petition presented substantial information indicating that the requested action may be warranted). That finding was published in the Federal Register on April 25, 2000 (65 FR 24171), thereby initiating a public comment period and status review for the species. The public comment period remained open until June 26, 2000.

In our 90-day finding, we stated that we had reviewed and considered all known relevant literature and information available at that time (April 2000) on the current status of and threats to the Tibetan antelope. Since then, a limited amount of relevant new information has become available as a result of the status review and public comment period. That information was incorporated, as appropriate, in the 12-month finding, which was published on October 6, 2003 (68 FR 57646). Together with the 12-month finding, in that document we proposed to list the Tibetan antelope as endangered throughout its range, and we sought public comments until January 5, 2004.

In accordance with the Interagency Cooperative Policy for Peer Review in Endangered Species Act Activities published on July 1, 1994 (59 FR 34270), we selected three appropriate independent specialists to review the proposed rule. The purpose of such review is to ensure that listing decisions are based on scientifically sound data, assumptions, and analysis. We selected three appropriate independent specialists to review the proposed rule who have considerable knowledge and field experience in Tibetan antelope biology and conservation. We also sent letters requesting comments from the Management and Scientific Authorities for CITES (Convention on International Trade in Endangered Species of Wild Fauna and Flora) in the range countries of China, India, and Nepal.

Summary of Comments and Recommendations

We received 272 comments during the public comment period on the 90-day finding, including 1 comment from a range country government (People's Republic of China), 4 comments from non-governmental organizations, 41 letters from individuals, 86 postcards from individuals, and 1 letter of petition signed by 140 individuals. All comments fully supported an endangered listing for the Tibetan antelope, although only five comments provided any new information on the status of or threats to the species. Particularly important among these was the letter from Zhen Rende, Director General of the CITES Management Authority of China, in which he expressed strong support for listing the species as endangered. The comments were used in the development of the proposed rule to list the species.

During the comment period for the proposed rule, we received 11 comments: 2 from range countries, 3 from peer reviewers, 4 from non-governmental organizations, and 2 from private individuals. Except for one reviewer and a private individual, all comments were strongly supportive of the endangered listing.

A range country Scientific Authority response was received from Mr. Wang Sung, Research Professor, Institute of Zoology, Chinese Academy of Sciences, and Executive Vice Chairman, Endangered Species Scientific Commission, Beijing, China. We also received a response from The Wildlife Trust of India (WTI), a non-governmental organization, in New Delhi, India. These commenters supported the listing rule.

With the exceptions of the peer reviewers, range country contacts, a private individual, and William Bleisch, PhD, China Programme Manager, Fauna and Flora International, Beijing, China, all other comments were submitted by the following organizations: American Zoo and Aquarium Association (AZA), Earth Island Institute (EII), The Humane Society of the United States (HSUS), and International Fund for Animal Welfare (IFAW). Most of the comments supported listing the Tibetan antelope as endangered.

Opposition to the Proposed Listing of the Tibetan Antelope as Endangered

There were two opponents to listing the Tibetan antelope as endangered. These were one private individual and one peer reviewer.

Issue 1: The private individual claimed that the proposed rule relied on anecdotal population information and lacked quantitative trend data necessary to determine whether or not the population is declining. This person also noted that, even if a decline is determined, it may be indicative of a natural long-term population cycle.

Service Response 1: In making our determination, the Service relied on the best available scientific information. Thorough population censuses are difficult with this species due to its relative isolation and the harsh environment of the Tibetan Plateau. We have received population information from experts, such as Dr. George B. Schaller, who has observed the Tibetan antelope throughout its range and has estimated and compared current and historical population numbers and distribution. Based on our review of the literature and comments we received, Dr. Schaller's 1998 estimate remains the best scientific estimate of the Tibetan antelope population.

Additional quantification of a decline was provided by a reviewer and another commenter. The reviewer commented that the Service failed to include the quantitative trend assessment of Tibetan antelope in Yeniugou, Qinghai Province, China (Harris et al. 1999). Observations made on foot and horseback as well as interviews with local and provincial officials indicated that the population of Tibetan antelope declined from over 2,000 animals in 1991 to 2 animals (observed) in 1997. The authors concluded that an entire subpopulation of the Tibetan antelope can be extirpated in the short term. They hypothesized that the decline may be due to increased poaching or the antelope moving to alternative areas, or both. The commenter provided population estimates that indicated a decline from 13.6 individuals/km² to 5.9 individuals/km² between 1991 and 2001 in the summer calving grounds north of Mount Muztagh Ulugh in Xinjiang Province, China (Bleisch et al. unpublished). The decline was attributed solely to poaching. It should be noted that a decline caused by natural, non-anthropogenic factors could also place a species in danger of extinction throughout all or a significant portion of its range.

Issue 2: The Service provided few details regarding the threat of habitat destruction.

Service Response 2: We disagree. The Service has reviewed the scientific literature and explained that human activities, such as resource extraction, livestock grazing, and road or railway construction, have resulted in habitat fragmentation or desertification throughout the range of the Tibetan antelope. We described some specific projects and how they have obstructed Tibetan antelope migration routes to calving grounds (See Factor A below).

Issue 3: It is unclear what conservation benefits will accrue to the Tibetan antelope from listing under the Act. The species is listed in CITES Appendix-I, yet current laws within range countries do not seem to effectively deter poaching or habitat loss.

Service Response 3: Listings under the Act are not restricted to species that will benefit from the protections of the Act. Rather, the Act calls for listing if the species meets the definitions of endangered or threatened, following an analysis of threats factors. In addition, the protections of the Act, along with the current protections under CITES, may provide a conservation benefit by further limiting import and export from the United States. Upon listing, import and export into and from the United States as well as movement and sale in interstate or foreign commerce of Tibetan antelope, including parts and products, will be prohibited under the Act unless authorized. Such activities can be authorized, but only for scientific purposes or to enhance the propagation or survival of the species. Thus, for example, if the Service receives an application to import a live Tibetan antelope or Tibetan antelope parts or products, the import can only occur if the Service determines that the activity is for scientific purposes or will enhance the propagation or survival of the species.

Support for the Proposed Listing of the Tibetan Antelope as Endangered

Issue 1: One reviewer noted that the only quantitative trend assessment of any Tibetan antelope population (Harris et al. 1999) was not cited in the proposed rule. The commenter provided a copy of the article.

Service Response 1: We acknowledge the oversight and are including the assessment in our Summary of Factors Affecting the Species (Factor B) analysis. The article strengthens our conclusion that wild populations have declined precipitously in the short term.

Issue 2: In the proposed rule, we had concluded that fences will have the effect of excluding Tibetan antelope from grassland needed for forage (68 FR 57647). One reviewer claimed that although this may be a legitimate concern, there is no data to support the statement for this species.

Service Response 2: We reported that changes in Chinese Government policy have resulted in an attempt to permanently settle many Tibetan pastoralists. This has led to a proliferation of rangeland fencing on portions of the Tibetan Plateau (Miller 2000, Los Angeles Times 2002). Increasingly, nomads are fencing grasslands for livestock grazing and fodder production, thereby excluding Tibetan antelope from the fenced areas. Tibetan antelope need open range to survive (Miller and Schaller 1997). Thus, fencing reduces habitat that would otherwise be available to Tibetan antelope.

Issue 3: The same reviewer added that gold mining in Qinghai Province, China, is declining. Another reviewer stated that itinerant gold mining in China has until recently been legal.

Service Response 3: Professor Wang of the Chinese Academy of Sciences agreed with the proposed rule and emphasized that human activity, including road construction and mining (legal and illegal), is detrimental to the species' survival. These activities are discussed in the proposed rule and Factor A (below).

Issue 4: A reviewer indicated that there has been increased coordination of anti-poaching activities in Qinghai, Xinjiang, and Tibet, which included a workshop in Xinjiang in 2002. According to one organization, workshop participants included national and local agencies from China and the Tibet Autonomous Region. The workshop resulted in a resolution calling for increased habitat protection, in situ conservation of the Tibetan antelope, and international collaboration to eliminate illegal trade. In addition, the CITES Management Authority of China and the CITES Secretariat convened an enforcement workshop in Lhasa, Tibet Autonomous Region, in August 2003. The workshop covered international and national wildlife law enforcement, intelligence techniques, and collaboration with other international law enforcement agencies as well as national agencies.

Service Response 4: The workshop information has been considered in the Factor D analysis of this rule.

Issue 5: One reviewer noted that the Service erred in saying that the Jammu and Kashmir Wildlife Protection Act has not been amended to comply with India's national wildlife protection law (68 FR 57650). The reviewer stated that the Jammu and Kashmir Wildlife Protection Act was amended in June 2002 so that the Tibetan antelope has been elevated from Schedule II to Schedule I of the Act, thus providing complete protection to the species, parts, and products. While the amendment conforms to the national wildlife protection act, the Government of Jammu and Kashmir is not implementing the new provision, and the manufacture of shahtoosh shawls and trade continues in that State. The reviewer provided photographs, a testimonial letter from a visitor from the United States, and a newspaper article attesting to the weaving and sale of the shawls in the State. Indeed, the WTI has filed a case in the Supreme Court of India against the State of Jammu and Kashmir to force the implementation of the amended wildlife law. The CITES Secretariat prepared a document for the 13th Meeting of the Conference of the Parties to CITES in which the Parties were asked to support new language in Resolution Conf. 11.8 (Rev. CoP12) “* * * that the State of Jammu and Kashmir in India halts the processing of such wool and the manufacture of shahtoosh products” (CITES Secretariat 2004). However, the new language was rejected by the Conference of the Parties (October 2-14, 2004). So culturally entrenched is shahtoosh shawl manufacturing in Jammu and Kashmir that a recent WTI-IFAW census of shahtoosh workers indicated that 14,293 individuals were directly involved in shahtoosh production (Gopinath et al. 2003, submitted during the comment period). This number appears to be lower than expected and declining due to legal restrictions and alternative employment for pashmina production (cashmere from the domesticated mountain goat Capra hircus).

One reviewer noted that a study conducted by the WTI in partnership with IFAW in December 2003 found shahtoosh shawls available illegally to tourists in New Delhi and other towns in India. From his study of the shahtoosh trade since 1992, Dr. Ashok Kumar, Senior Advisor and Trustee, WTI, observed that methods of concealment and porous borders between Tibet, India, and Nepal have made enforcement of Tibetan antelope protection laws difficult. Indeed, in 2004, the Dubai Government seized 100 shahtoosh shawls from Kahmiri traders (Bindra 2004). The shawls are believed to have been manufactured in India.

Service Response 5: The new information about the Jammu and Kashmir shahtoosh trade was considered in the Factor D analysis of this rule.

Issue 6: One reviewer recommended that the United States adopt a registration scheme for privately owned shahtoosh shawls as India has done.

Service Response 6: Such a process would be difficult to administer. However, once the listing becomes effective, the Service's Office of Law Enforcement will seek information on the legal origin of shawls (for example, if the shawl qualifies under the pre-Act exemption) if there is evidence of a violation of the Act.

Issue 7: New information that strengthens our argument for listing the Tibetan antelope as endangered was provided by Dr. William Bleisch, China Programme Manager, Fauna and Flora International, Beijing, China. Since 1998, Dr. Bleisch has been working on a Tibetan antelope conservation project in the Arjin Mountain Nature Reserve and has recently been involved in community-based wildlife conservation in the Qinghai Province of China. To our list of protected Tibetan antelope populations and habitat in western China (68 FR 57648), Dr. Bleisch added the recent approval by the Chinese Government of the Snowlands Three Rivers Source National Nature Reserve (158,000 km² in Qinghai Province) and the Mid-Kunlun Mountains Nature Reserve (size not provided, in Xinjiang Province). He noted that the five contiguous reserves protect most of the remaining habitat for Tibetan antelope. Based on his experience, Dr. Bleisch commented that the reserves are only partially effective in protecting the Tibetan antelope because of the impact of illegal mining operations, inconsistencies in governmental jurisdiction, and lack of environmental safeguards. He also provided unpublished population information on Tibetan antelope observed from vehicle-based transects through summer calving grounds north of Mount Muztagh Ulugh in Xinjiang Province. In 1999, he observed a density of 13.6 individuals/km². The same transects revealed 5.9 individuals/km² in 2001 (Bleisch et al. unpublished). The decline is believed to have been caused by poaching, which reduced the density of females by about 50 percent in just 2 years.

Service Response 7: We have added the areas mentioned by Dr. Bleisch to our list of protected Tibetan antelope populations and habitat in western China discussed under Factor A. The new population and threats information was also considered in the analysis of this rule.

Issue 8: Dr. Bleisch disagreed with our assertion in the proposed rule that poaching has declined in some areas because there are not enough animals to warrant an organized poaching effort (68 FR 57649). He said that poaching has decreased even where Tibetan antelopes are still abundant and believes this is due to increased law enforcement within China and in other countries coupled with a lower international demand for shahtoosh wool.

Service Response 8: Although there may be evidence of less poaching at the summer calving grounds since the peak in 1999 when 909 carcasses were observed, we do not have enough information to determine whether or not poaching declined due to better law enforcement, lower demand, or our original assertion that there may not be enough animals to warrant an organized poaching effort. It may be due to any or all of these factors.

Issue 9: Two commenters representing two non-governmental organizations commented that a specific threat to the Tibetan antelope in southwestern Qinghai Province is the construction of the Qinghai-Tibet Railway, which began in 2001. The railway and the highway that runs parallel to it bisect the migratory route of the antelope in that region. The ideal construction season coincides with the peak migration. Population of the area with construction personnel and eventual further human settlement along the railway and highway may further destroy antelope habitat and may reduce the antelope population size, particularly if females cannot migrate to calving grounds.

Service Response 9: The Service acknowledged this threat in the proposed rule.

Issue 10: The same two commenters also provided the Service with recent examples of seizures of Tibetan antelope wool and shahtoosh shawls. Of particular concern is the continued poaching in Kekexili Nature Reserve in Qinghai Province at which most of the animals killed were pregnant females en route to the calving grounds. One commenter noted that John Sellar, Senior Enforcement Officer at the CITES Secretariat, told the Workshop on Enforcement of Tibetan Antelope that, despite international and national initiatives, “* * * we seem to still be disappointingly far away from eliminating the poaching of the Chiru and the illegal trade in its parts (Sellar 2003).”

Service Response 10: Although we addressed law enforcement issues in the proposed rule, we have included the assessment by John Sellar in our Factor D analysis of this rule.

Issue 11: One commenter suggested that the Service use the term “tsod” instead of “chiru” or “Tibetan antelope” because it is the term recognized by native Tibetan speakers.

Service Response 11: While we try to be sensitive to local or native names, due to the pervasiveness of “chiru” and “Tibetan antelope” and the absence of “tsod” in the international literature, we will continue to use the terms “chiru” or “Tibetan antelope.”

Issue 12: This commenter also pointed out that the World Conservation Union (IUCN) lists the Tibetan antelope as endangered due to the sharp decrease in animal numbers and distribution as a result of commercial killing for the shahtoosh underfur (IUCN 2003).

Service Response 12: This information has been added to the Factor B analysis.

Issue 13: The same commenter provided additional information about the number of Tibetan antelope in Ladakh, India, and poaching and commercial killing in China, and reiterated the information provided by other commenters regarding the regulation of shahtoosh trade in Jammu and Kahmir, India. The commenter noted that listing the Tibetan antelope as endangered will encourage U.S. law enforcement personnel to more effectively control and prosecute shahtoosh-related crimes.

Two other commenters representing non-governmental organizations also agreed with the proposal. One organization offered its assistance to the Service should we consider long-term captive breeding, reintroduction, and recovery programs for the Tibetan antelope.

Service Response 13: We thank the commenters for their comments and offer of assistance.

Summary of Factors Affecting the Species

Section 4(a)(1) of the Act (16 U.S.C. 1531 et seq.) and regulations promulgated to implement the listing provisions of the Act (50 CFR part 424) set forth the procedures for adding species to the Federal lists. A species may be determined to be an endangered or threatened species on the basis of one or more of the five factors described in section 4(a)(1). These factors and their application to the Tibetan antelope are as follows:

A. Present or Threatened Destruction, Modification, or Curtailment of Its Habitat or Range

Tibetan antelope are endemic to the high Tibetan Plateau. Most of their range lies above 4,000 meters (m) in elevation, but they occur at elevations as low as 3,250 m in parts of Xinjiang (Schaller 1998). They prefer flat to rolling topography and alpine steppe or similar semi-arid plant associations (Schaller 1998). They occasionally occur in alpine desert steppe habitats, at least on a seasonal basis, but are not known to have occurred in the Qaidam Basin of Qinghai Province (Schaller 1998). They do not occur in alpine meadow areas receiving greater than 400 millimeters (mm) annual precipitation (Schaller 1998).

Although the current east-west distribution of Tibetan antelope appears much as it was described a century ago by Bower (1894, cited in Schaller 1998), the distribution is now fragmented where previously it was continuous. Schaller (1998) determined that Tibetan antelope no longer occur, or occur in low numbers, in several areas where early explorers noted them to be abundant. The current range is divided into two areas: a northern area of about 490,000 km² and a central area of about 115,000 km². Distribution between the two areas was continuous until recent decades, and there may still be rare contact near the western end. However, current Tibetan antelope populations in the central Chang Tang of the Tibet Autonomous Region are highly fragmented and occur in small, scattered herds. The range has also contracted in eastern Qinghai Province (Schaller 1998).

Changes in Chinese government policy have led to increasing human development and activity on the Tibetan Plateau, including transportation development (roads and railways), resource extraction activities (minerals, oil, and gas), permanent settlement of traditionally nomadic or semi-nomadic pastoralists, and rangeland use for domestic livestock grazing (Ginsberg et al. 1999). These activities have already adversely modified or destroyed Tibetan antelope habitat in some areas and threaten to modify or destroy habitat over a large area in the near future.

Nomadic and semi-nomadic pastoralists have grazed a mix of domestic livestock (primarily sheep, goats, yaks, and some horses) on the Tibetan Plateau for millennia in relative harmony with the environment (Miller 2000, 2002). Livestock can directly and indirectly compete with Tibetan antelope for available vegetation resources, both within and outside established protected areas (Schaller 1998; Ginsberg et al. 1999). In recent decades, as a result of government policy changes, excessive livestock grazing has degraded or destroyed Tibetan antelope habitat in some areas, and could eventually lead to the destruction of some portion of the species' range through physical displacement, overgrazing, or both, which may contribute to desertification (Ginsberg et al. 1999; Miller 2001). Recent changes in Chinese Government policy have resulted in an attempt to permanently settle many Tibetan pastoralists, with a resultant proliferation of rangeland fencing on portions of the Plateau (Miller 2000; Los Angeles Times 2002). Livestock frequently graze year-round in antelope habitat, and increasingly, nomads are fencing for winter-spring grazing and fodder production, thereby excluding Tibetan antelope from the fenced grassland resources. Tibetan antelope need open range to survive (Miller and Schaller 1997). Although not studied specifically for this species, enclosure and conversion of grasslands may disrupt antelope habitat, posing a particular threat in the spring, when weakened Tibetan antelope are attempting to rebuild their energy reserves, and in the fall, as antelope are preparing for the harsh winter.

The Tibetan Plateau has extensive gold deposits. Gold mining can have significant impacts on Tibetan antelope habitat. Mining degrades or destroys habitat through environmental contamination and disturbance, and through pollution of surface waters (U.S. Embassy, China [USEC] 1996).

Oil exploration and some production have commenced within the Tibetan antelope's range, and pose threats of destroying habitat; polluting the environment with toxic production chemicals, effluents, and emissions; increasing disturbance levels; and increasing the incidence of poaching by drawing additional settlers into the region (Ginsberg et al. 1999). In 2001, Chinese researchers announced the discovery of a potentially huge oil and gas deposit, extending over 100 km in length, in the Qiangtang Basin of the Tibet Autonomous Region (Global Policy Forum 2001). The deposit could potentially produce hundreds of millions of tons of oil.

Construction of the Qinghai-Tibet Railway, currently in progress, threatens to destroy important Tibetan antelope habitat and, perhaps more importantly, significantly disrupt Tibetan antelope migration corridors in southwestern Qinghai Province. One news service report mentioned that construction on the railway, the first to link the Tibet Autonomous Region with the rest of China, was temporarily suspended in June 2002 because up to 1,000 migrating Tibetan antelope were unable to cross the construction area (People's Daily 2002; Xinhuanet 2002a). All activity was stopped and construction workers removed from the area until these animals had passed the construction site. Although the news service report mentioned that a passage specifically for animals will be set aside when the railway is built, so as to ensure the free migration for wildlife in the locality, it is not certain how successful such a passage would be in ensuring freedom of movement for thousands of migrating Tibetan antelope.

Five contiguous protected areas have been established to protect Tibetan antelope populations and habitat in western China: Chang Tang Nature Reserve (approximately 334,000 km² in the Tibet Autonomous Region), Kekexili (aka Kokoxili or Hoh Xil) National Reserve (approximately 45,000 km² in Qinghai Province), Arjin Shan Reserve (45,000 km² in Xinjiang Province), Snowlands Three Rivers Source National Nature Reserve (158,000 km² in Qinghai Province), and the Mid-Kunlun Mountains Nature Reserve (size not provided, in Xinjiang Province). The five reserves protect most of the remaining habitat for Tibetan antelope. A sixth protected area, Xianza Reserve (40,000 km² in the Tibet Autonomous Region), also includes some Tibetan antelope habitat. These reserves are only partially effective in protecting the Tibetan antelope and its habitat due to a combination of inadequate management, limited enforcement capacity, illegal mining operations, inconsistencies in governmental jurisdiction, lack of environmental safeguards, an influx of settlers, and domestic livestock grazing (Bleisch in litt. Jan. 2004; WTI-IFAW 2001). Whereas many of the protected areas in the Tibetan Plateau region encompass high-elevation rangelands, protected areas at lower grassland elevations are scarce (Miller 1997).

It has been difficult for reserve staffs to keep poachers and illegal gold miners out, a fact that prompted the Qinghai Provincial Government in late 1999 to close the Kekexili Reserve to all activities that were not expressly authorized in advance by the State Forestry Administration (SFA) (China Daily 1999).

The Chang Tang Reserve staff lacks the funding, experience, personnel, and equipment to adequately prevent Tibetan antelope poaching and other threats to the species (SFA 1998). Formerly nomadic pastoralists are establishing settlements within the Chang Tang Reserve, and immigrants from other parts of the Plateau are moving into protected areas. Increased human presence, whether temporary nomadic aggregations or in permanent settlements, can adversely affect Tibetan antelope habitat and be a detrimental disturbance factor.

Therefore, based on the best available information, we find that the Tibetan antelope is in danger of extinction within the foreseeable future throughout all or a significant portion of its range from the present or threatened destruction, modification, or curtailment of its habitat or range.

B. Overutilization for Commercial, Recreational, Scientific, or Educational Purposes

The World Conservation Union (IUCN) lists the Tibetan antelope as endangered due to the sharp decrease in animal numbers and distribution as a result of commercial hunting for the shahtoosh underfur (IUCN 2003). There are no accurate estimates of Tibetan antelope numbers from the past, although the few early western explorers who ventured onto the Tibetan Plateau noted the presence of large herds in many areas (Schaller 1998). For example, Rawling (1905, cited in Schaller 1998) wrote, “Almost from my feet away to the north and east, as far as the eye could reach, were thousands upon thousands of doe antelope with their young. * * * Everyone in camp turned out to see this beautiful sight, and tried, with varying results, to estimate the number of animals in view. This was found very difficult. * * * as we could see in the extreme distance a continuous stream of fresh herds steadily approaching; there could not have been less than 15,000 or 20,000 visible at one time.” Bonvalot (1892), Wellby (1898), Deasy (1901), and Hedin (1903, 1922) made similar observations (all references cited in Schaller 1998). Schaller (1999) has suggested that upwards of 1 million Tibetan antelope roamed the Tibetan Plateau as recently as 40-50 years ago. Historical population estimates of 500,000 to 1,000,000 appear to be reasonable based on the limited information available.

Although data on the current population dynamics of Tibetan antelope are fragmentary and preliminary (Schaller 1998), it is clear that the total population has declined drastically in the past 30 years and is continuing to decline. Schaller (1998) estimated that the total population in the mid-1990s may have been as low as 65,000-75,000 individuals. More recent estimates from China quote a population figure of 70,000, although the scientific basis for the estimate is not given (Xinhuanet 2002b). A recent survey of Tibetan antelope in Yeniugou, Qinghai Province, China (Harris et al. 1999), based on observations made on foot or horseback as well as interviews with local and provincial officials, indicated that the population of Tibetan antelope declined from over 2,000 animals in 1991 to 2 animals observed in 1997. The authors hypothesized that the decline may be due to increased poaching or the antelope moving to alternative areas, or both. The authors concluded that an entire subpopulation on the Tibetan Plateau can disappear in the short term.

On the summer calving grounds north of Mount Muztagh Ulugh in Xinjiang Province, the population of Tibetan antelope declined from 13.6 individuals/km² to 5.9 individuals/km² between 1999 and 2001 (Bleisch et al. unpublished, Schaller 1998, Harris et al. 1999). The decline was attributed solely to poaching. If one assumes that the historical population of Tibetan antelope was 500,000 individuals (an apparently conservative estimate), then the most recent estimate of 70,000 represents a population decline of greater than 85 percent.

The principal cause of the Tibetan antelope population decline has been poaching on a massive scale for the species' fur (wool) (Bleisch et al. unpublished), known in trade as shahtoosh (“king of wool”), which is one of the finest animal fibers known (Ginsberg et al. 1999). Shahtoosh is processed into high-fashion scarves and shawls in the Indian State of Jammu and Kashmir. These items are greatly valued by certain people of wealth and fashion around the world. The international demand for Tibetan antelope fiber and shahtoosh products is the most serious threat to the continued existence of the Tibetan antelope. Although overall mortality rates are not known, mortality due to poaching was estimated to be as high as 20,000 individuals per year in China (SFA 1998). Poaching appears to have declined in some areas in recent years (Xinhuanet 2002a), most likely because there are not enough animals to warrant an organized poaching effort. But Chinese officials acknowledge that poaching is still far from being eradicated in China (Xinhuanet 2002c). Annual recruitment of young has been estimated at around 12 percent (Schaller 1998). If one assumes that the total population of Tibetan antelope is 70,000 individuals and that the population is currently declining at a rate of 1,000 to 3,500 individuals per year (admittedly a rough estimate, given available data), then the species could go extinct within the next 20 to 70 years. The species' role as the dominant native grazing herbivore of the Tibetan Plateau ecosystem has already been significantly diminished, and its influence on ecosystem structure and function would likely be substantially reduced or eliminated well before the species actually goes extinct.

Although the shahtoosh trade has existed for centuries, killing of Tibetan antelope on a widespread, commercial basis probably began only in the 1970s or 1980s, resulting from an increase in international consumer demand and increased availability of vehicles on the Tibetan Plateau. Schaller and Gu (1994) noted that, with the increasing availability of vehicles beginning three decades ago, truck drivers, government officials, military personnel, and other outsiders had greater access to shoot wildlife. Most Tibetan antelope poaching takes place in the Arjin Shan, Chang Tang, and Kekexili Nature Reserves by a variety of people, including local herders, residents, military personnel, gold miners, truck drivers, and others (Schaller 1993; Schaller and Gu 1994). Organized, large-scale poaching rings have developed in some areas. Poachers always kill Tibetan antelope to collect their fiber. No cases of capture-and-release wool collection are known, nor are naturally shed fibers collected from shrubs and grass tufts, as is often claimed (primarily by people within the shahtoosh industry). Poachers shear the hides, and collect and clean the underfur of the antelope, or sell the hides to dealers who prepare the shahtoosh (Wright and Kumar 1997).

Schaller speculated that, during the 1980s and 1990s, tens of thousands of Tibetan antelope were killed for their wool (Ginsberg et al. 1999). One Tibetan antelope carcass yields about 125 to 150 grams (g) of fiber. In the winter of 1992, an estimated 2,000 kg of wool reached India, and consignments of 600 kg were seized (and released) in India during 1993 and 1994 (Bagla 1995, cited in Ginsberg et al. 1999). This amount alone represents 17,000 Tibetan antelope. In October 1998, 14 poachers in the Tibet Autonomous Region were convicted of collectively killing 500 Tibetan antelope and purchasing 212 hides, and were sentenced to 3 to 13 years imprisonment (Xinhua 1998, cited in Ginsberg et al. 1999). The largest enforcement action to date within China, involving several jurisdictions and dubbed the “Hoh Xil Number One Action” by Chinese authorities, resulted in the arrest of 66 poachers and the confiscation of 1,658 Tibetan antelope hides in April and May 1999 (Liu 1999, cited in Ginsberg et al. 1999). The WTI-IFAW (2001) report lists 77 known seizures of Tibetan antelope hides, raw shahtoosh, and finished shahtoosh scarves. Recent documented seizures have been of 39 kg of raw fiber in March 2001 along the Tibet-Nepal border (WTI-IFAW 2001) and 80 shahtoosh shawls in New Delhi in March 2002 (Wildlife Protection Society of India [WPSI] News 2002). In Dubai, 100 shawls were seized from Kashmiri traders (Bindra 2004). A consignment of 211 kg of raw shahtoosh was seized by wildlife officials in New Delhi in early April 2003 (A. Kumar, WTI, pers. comm. with K. Johnson, Division of Scientific Authority, April 6, 2003). This quantity of raw wool represents the killing of almost 1,800 Tibetan antelope. In June 2005, Swiss customs confiscated 537 shahtoosh shawls, the largest seizure of shahtoosh in Europe (IFAW 2005). Tibetan antelope are also killed for their horns (used in traditional medicinal practices), hides, and meat (Ginsberg et al. 1999), although these uses are secondary to the use of fiber.

Illegal mining activity also opens another avenue for profiting from poaching (USEC 1996). Bleisch (1999) noted that illegal gold mining camps in the Arjin Shan Reserve in Xinjiang have served as bases for poachers and have provided them with essential logistical support and access. Without this support, poachers would have a difficult time operating in these remote regions. As a result, poaching has already had a profound impact on the Tibetan antelope population of the reserve (Bleisch 1999).

Several areas where calving females formerly congregated are now empty of Tibetan antelope during the calving season (Bleisch 1999). In 2002, researchers spent 2 weeks on foot locating an unknown calving ground in the western Chang Tang only to discover that its location was less than 2 days' overland drive from a new gold mine that had sprung up in the previous few months (Ridgeway 2003). They wrote, “That same dirt road [a 60-mile (96.6 kilometer) dirt road built by miners in the previous 3 months] gives us an easy way home, as we cart toward our waiting vehicle. But it could also give poachers easy access to the calving grounds. From the mine we estimate a four-wheel-drive vehicle could make it cross-country in 2 days * * *. With the chiru's calving grounds suddenly vulnerable, we feel a new urgency to report our findings.”

Governments may periodically enforce mining bans in sensitive areas, and have done so in Tibet, but in general it is difficult to control illegal miners over extensive areas of remote lands with poor road access. Tibet has reserves of many other valuable minerals, among them uranium, copper, and cesium, and mining of these minerals may also impact Tibetan antelope habitat and lead to poaching.

Therefore, based on the best available information, we find that the Tibetan antelope is in danger of extinction throughout all or a significant portion of its range from overutilization for commercial, recreational, scientific, or educational purposes.

C. Disease or Predation

Schaller (1998) has documented Tibetan antelope mortality caused by disease and predators such as the wolf (Canis lupus), snow leopard (Uncia uncia), lynx (Lynx lynx), brown bear (Ursus arctos), and domestic dog (Canis familiaris). He suggested that wolf predation may at one time have been a substantial mortality factor for Tibetan antelope, particularly on the calving grounds. At the present time, neither disease nor predation is considered to significantly threaten or endanger the species in any portion of its range. However, one or both of these factors may become more significant as populations decline and become increasingly fragmented because of other mortality factors. Therefore, based on the best available information, we find that the Tibetan antelope does not appear to be in danger of extinction within the foreseeable future from disease or predation.

D. Inadequacy of Existing Regulatory Mechanisms

The Tibetan antelope was listed in Appendix II of CITES in 1975; it was transferred to Appendix I in 1979. All three countries that constitute the species' natural geographic range, China, Nepal, and India, are CITES Parties. The only reservation ever held on the species was taken by Switzerland in 1979 and withdrawn in October 1998.

Shahtoosh is smuggled out of China by truck or animal caravan, through Nepal or India, and into the State of Jammu and Kashmir in India. This is in violation of CITES as well as of domestic laws of the countries involved. The shahtoosh industry in the Srinagar region of Jammu and Kashmir is controlled by a wealthy, influential group of 12-20 families (Wright and Kumar 1997). There are about 100-120 family-run manufacturing operations that employ more than 20,000 people who prepare, weave, and finish the raw shahtoosh into scarves and shawls (WTI-IFAW 2001). The scarves are sold throughout India and smuggled abroad in violation of Indian law, CITES, and domestic legislation in many of the importing countries (Wright and Kumar 1997). Shahtoosh products have been made in Jammu and Kashmir for centuries, but the current high levels of poaching are a result of consumer demand in the West, including the United States. The CITES Secretariat prepared a document for the 13th Meeting of the Conference of the Parties in which the Parties were asked to support new language in Resolution Conf. 11.8 (Rev. CoP12) “* * * that the State of Jammu and Kashmir in India halts the processing of such wool and the manufacture of shahtoosh products (CITES Secretariat 2004).” However, the Parties rejected the proposed language.

The Tibetan antelope is protected at a national level by China, Nepal, and India. In China, the Tibetan antelope is a Class 1 protected species under the Law of the People's Republic of China on the Protection of Wildlife (1989), which prohibits all killing except by special permit from the central government. Although China has expended considerable effort and resources in an attempt to control poaching, it has been unable to do so (SFA 1998) because of the magnitude of the poaching, the extensive geographic areas involved, and the high value of shahtoosh, which gives poachers great incentive to continue their illegal activities. On several occasions, China has appealed to other governments and organizations to eliminate the demand for and production of shahtoosh products, most recently at the 1999 International Workshop on Conservation and Control of Trade in Tibetan Antelope held in Xining, China, in October 1999 and in a Resolution adopted at the 11th Meeting of the Conference of the Parties to CITES in April 2000 which was revised at the 13th Meeting of the Conference of the Parties to CITES in October 2004 (Resolution Conf. 11.8 [Rev. COP13], http://www.cites.org/eng/res/11/11-08R13.shtml). China re-iterated its commitment to Tibetan antelope conservation at the 12th Meeting of the Conference of the Parties to CITES in November 2002 (Decision 12.40, http://www.cites.org/eng/dec/valid12/12-40.shtml).

There has been increased coordination of anti-poaching activities in Qinghai, Xinjiang, and Tibet, including a workshop in Xinjiang, China, in 2002. Participants included national and local agencies from China and the Tibet Autonomous Region. The workshop resulted in a resolution calling for increased habitat protection, in situ conservation of the Tibetan antelope, and international collaboration to eliminate illegal trade. In addition, the CITES Management Authority of China and the CITES Secretariat convened the Workshop on Enforcement of Tibetan Antelope in Lhasa, Tibet Autonomous Region, in August 2003. The workshop covered international and national wildlife law enforcement, intelligence techniques, and collaboration with other international law enforcement agencies as well as national agencies. Despite these efforts, John Sellar, Senior Enforcement Officer, CITES Secretariat, told the participants that international and national initiatives have done little to stop the poaching of the Tibetan antelope and the illegal trade in its parts (Sellar 2003).

In Nepal, the Tibetan antelope is listed as an endangered species under Schedule I of Nepal's National Parks and Wildlife Conservation Act (Wright and Kumar 1997). Smugglers use Nepal as a transit route from China to India (Government of Nepal 1999), and recent investigations by WWF Nepal Program and TRAFFIC India have documented the routes used. Although Nepal has made some effort to stop the illegal trade, including the confiscation of several shahtoosh shipments, it has been unable to eliminate or control the trade. This has, in part, resulted from the lack of CITES-implementing legislation at a national level (Government of Nepal 1999). In its national report to the International Workshop on Conservation and Control of Trade in Tibetan Antelope in October 1999, the Government of Nepal indicated that it had recently prepared CITES-implementing legislation, which was awaiting approval by the Government (Government of Nepal 1999). That legislation apparently had not yet been enacted as of the 53rd Meeting of the CITES Standing Committee (SC) in June 2005 (SC53 Doc 31, http://www.cites.org/eng/com/SC/53/E53-31.pdf).

In India, the Tibetan antelope is listed on Schedule I of the Wildlife Protection Act (1972), which prohibits hunting and trade in any part of the species (Wright and Kumar 1997). The northern Indian State of Jammu and Kashmir has a separate wildlife act, The Jammu and Kashmir Wild Life Protection Act (J&K Act), which is independent of national law. Prior to June 2002, the Tibetan antelope was listed in Schedule II of the J&K Act which permitted the manufacture of and trade in shahtoosh under certain conditions. Under Schedule II, shahtoosh dealers had to be licensed and were required to report to the government any import of Schedule II animal products (Ginsberg et al. 1999). The J&K Act was amended in June 2002 to elevate the species from Schedule II to Schedule I, which provides complete protection to the species.

Despite the fact that no shahtoosh dealers had ever been licensed (Government of India 1999), the production and sale of shahtoosh shawls and other products occurred under Schedule II and continue to occur under Schedule I in Jammu and Kashmir. In response, the Wildlife Trust of India (WTI) has filed a case in the Supreme Court of India against the State of Jammu and Kashmir to force the implementation of the amended wildlife law. So culturally entrenched is shahtoosh shawl manufacturing in Jammu and Kashmir that a recent WTI-IFAW census of shahtoosh workers indicated that 14,293 individuals were directly involved in shahtoosh production (Gopinath et al. 2003). This number appears to be lower than expected and declining due to legal restrictions and alternative employment for pashmina production (cashmere from the domestic mountain goat Capra hircus). According to Dr. Ashok Kumar, Senior Advisor and Trustee, WTI, a study conducted by WTI in partnership with IFAW in December 2003 found shahtoosh shawls available illegally to tourists in New Delhi and other towns in India (A. Kumar, WTI, in litt. January 5, 2004). From his study of the shahtoosh trade since 1992, Dr. Kumar observed that methods of concealment and porous borders between Tibet, India, and Nepal have made enforcement of Tibetan antelope protection laws difficult.

Sale of shahtoosh shawls occurs elsewhere in India as well, although sale is prohibited by national law. Despite the fact that CITES and Indian Customs Law prohibit the commercial import and export of shahtoosh and shahtoosh products, raw shahtoosh fiber still enters India and finished products still leave. Indian authorities have made a number of seizures of raw fiber and finished products over the years (Wright and Kumar 1997; Government of India 1999), but because of the conflict with Jammu and Kashmir, they have been unable to end the production of shahtoosh products.

In the United States, the Appendix-I listing of the Tibetan antelope has not completely prevented the illegal import and sale of shahtoosh products. Besides CITES, the United States has an additional domestic measure that regulates the trade of this species. The Lacey Act (16 U.S.C. 3371 et seq.) makes it unlawful to import, export, transport, sell, receive, acquire or purchase mammals or their products that were taken, possessed, transported, or sold in violation of State, Federal, or foreign laws or regulations.

Although several investigations have revealed a market for shahtoosh products in the United States, the first successful prosecution was in 2001. On May 29, 2001, a Los Angeles-based clothier agreed to pay a $175,000 civil settlement for importing and selling shahtoosh shawls in violation of the Endangered Species Act (which is the U.S. CITES implementing legislation) and the Lacey Act (press release from the U.S. Attorney's Office, District of New Jersey, dated May 29, 2001).

CITES provisions of the Endangered Species Act prohibit engaging in trade contrary to CITES and the possession of any specimen traded contrary to CITES. Thus, once a shahtoosh shawl is successfully smuggled into the United States, enforcement officers must currently prove the unlawful import in order to seize that shawl. Listing the Tibetan antelope under the Act would prohibit the sale or offering for sale of shahtoosh products in interstate or foreign commerce as well as delivery, receipt, transport, or shipment in interstate or foreign commerce in the course of a commercial activity. This would give U.S. prosecutors additional means of fighting shahtoosh smuggling and the illegal market within the United States. In addition, penalties can be greater for species that are listed under both CITES and the Endangered Species Act.

Therefore, based on the best available information, we find that the Tibetan antelope is in danger of extinction throughout all or a significant portion of its range from inadequate existing regulatory mechanisms.

E. Other Natural or Manmade Factors

Tibetan antelope are known to have died from exposure and malnutrition associated with severe winter weather (Schaller 1998). A blizzard in Qinghai Province killed a disproportionate number of young and yearlings, and resulted in reproductive failure in the following year. Although, at the present time, inclement weather does not significantly threaten or endanger the species in any portion of its range, it may become more significant as populations decline and become increasingly fragmented because of other mortality factors such as poaching. Therefore, based on the best available information, we find that the Tibetan antelope does not appear to be in danger of extinction within the foreseeable future from other natural or manmade factors.

Conclusion

In developing this rule, we have carefully assessed the best scientific and commercial information available regarding the threats facing this species. This information indicates that the total population of Tibetan antelope has declined significantly over the past three decades. This decline has resulted primarily from overutilization for commercial purposes and inadequacy of existing regulatory mechanisms. Habitat impacts, especially those caused by domestic livestock grazing, appear to be a contributory factor in the decline, and could have potentially greater impacts in the near future. Because these threats place the species in danger of extinction throughout all or a significant portion of its range (in accordance with the definition of “endangered species” in section 3(6) of the Act), we have determined that the Tibetan antelope is endangered throughout its range, pursuant to the Act. This action will result in the classification of this species as endangered, throughout its entire range.

Available Conservation Measures

Conservation measures provided to species listed as endangered or threatened under the Act include recognition of conservation status, requirements for Federal protection, and prohibitions against certain practices. Recognition through listing encourages and results in conservation actions by Federal, State, and private agencies and groups, and individuals. The protection required of Federal agencies and the prohibitions against take and harm are discussed, in part, below.

Section 7(a) of the Act, as amended, and as implemented by regulations at 50 CFR part 402, requires Federal agencies to evaluate their actions that are to be conducted within the United States or upon the high seas, with respect to any species that is proposed to be listed or is listed as endangered or threatened and with respect to its proposed or designated critical habitat, if any is being designated. Because the Tibetan antelope is not native to the United States, no critical habitat is being designated with this rule.

Section 8(a) of the Act authorizes the provision of limited financial assistance for the development and management of programs that the Secretary of the Interior determines to be necessary or useful for the conservation of endangered species in foreign countries. Sections 8(b) and 8(c) of the Act authorize the Secretary to encourage conservation programs for foreign endangered species, and to provide assistance for such programs, in the form of personnel and the training of personnel.

The Act and its implementing regulations set forth a series of general prohibitions and exceptions that apply to all endangered wildlife. As such, these prohibitions are applicable to the Tibetan antelope. These prohibitions, pursuant to 50 CFR 17.21, in part, make it illegal for any person subject to the jurisdiction of the United States to “take” (includes harass, harm, pursue, hunt, shoot, wound, kill, trap, capture, or to attempt any of these) within the United States or upon the high seas; import or export; deliver, receive, carry, transport, or ship in interstate or foreign commerce in the course of commercial activity; or sell or offer for sale in interstate or foreign commerce any endangered wildlife species. It also is illegal to possess, sell, deliver, carry, transport, or ship any such wildlife that has been taken in violation of the Act. Certain exceptions apply to agents of the Service and State conservation agencies.

Permits may be issued to carry out otherwise prohibited activities involving endangered wildlife species under certain circumstances. Regulations governing permits are codified at 50 CFR 17.22. With regard to endangered wildlife, a permit may be issued for the following purposes: for scientific purposes, to enhance the propagation or survival of the species, and for incidental take in connection with otherwise lawful activities.

National Environmental Policy Act

We have determined that Environmental Assessments and Environmental Impact Statements, as defined under the authority of the National Environmental Policy Act of 1969, need not be prepared in connection with regulations adopted pursuant to section 4(a) of the Act. A notice outlining our reasons for this determination was published in the Federal Register on October 25, 1983 (48 FR 49244).

Paperwork Reduction Act of 1995

The Office of Management and Budget approved the information collection in part 17 and assigned OMB Control numbers 1018-0093 and 1018-0094. This final rule does not impose new reporting or recordkeeping requirements on State or local governments, individuals, businesses, or organizations. We cannot conduct or sponsor and you are not required to respond to a collection of information unless it displays a currently valid OMB control number.

References Cited

Bagla, P. 1995. Sustainable tigers? BBC Wildlife 15(5):55.

Bindra, P. S. 2004. 100 shahtoosh shawls seized in Dubai. The Pioneer. August 7, 2004.

Bleisch, W. 1999. Pers. Comm. to the Tibetan Plateau Project via email.

Bleisch, W. V., H. B. Zhang, D. H. Xu, and H. M. Wong. Unpublished population density estimates for Tibetan antelope north of Mount Muztagh Ulugh, Xinjiang Province, China, 1999-2001.

Bonvalot, G. 1892. Across Tibet. Cassell, New York.

Bower, H. 1894. Diary of a journey across Tibet. Macmillan, New York.

China Daily. 1999. Qinghai closes nature reserve. December 30, 1999.

CITES Secretariat. 2004. Conservation of and control in Tibetan antelope. Document 31 for the 13th Convention of the Parties. http://www.cites.org/eng/cop/13/docs/E13-31.pdf.

Deasy, H. 1901. In Tibet and Chinese Turkestan. Longmans Green, New York.

Gatesy, J., D. Yelon, R. DeSalle, and E. Vrba. 1992. Phylogeny of the Bovidae (Artiodactyla, Mammalia), based on mitochondrial ribosomal DNA sequence. Molecular Biology and Evolution 9:433-446.

Gentry, A. 1992. The subfamilies and tribes of the family Bovidae. Mammal Review 22:1-32.

Ginsberg, J. R., G. B. Schaller, and J. Lowe. 1999. Petition to list the Tibetan antelope (Pantholops hodgsonii) as an endangered species pursuant to the U.S. Endangered Species Act of 1973. Wildlife Conservation Society and Tibetan Plateau Project.

Global Policy Forum. 2001. Potentially massive oil and gas find in Tibet. September 5, 2001. http://www.globalpolicy.org/security/natres/oil/China/2001/0905disc.htm.

Gopinath, R., R. Ahmed, A. Kumar, and A. Mookerjee. 2003. Beyond the Ban: A Census of Shahtoosh Workers in Jammu & Kashmir. Wildlife Trust of India and International Fund for Animal Welfare, New Delhi.

Government of India. 1999. Chiru and shahtoosh. Paper presented by S.C. Sharma at 1999 International Workshop on Conservation and Control of Trade in Tibetan Antelope, Xining, China. October 1999.

Government of Nepal. 1999. Some facts, problems and working strategies of shahtoosh trade in Nepal. Paper presented by T. Maskey at 1999 International Workshop on Conservation and Control of Trade in Tibetan Antelope, Xining, China. October 1999.

Harris, R. B., D. H. Pletscher, C. O. Loggers, and D. J. Miller. 1999. Status and trends of Tibetan plateau mammalian fauna, Yeniugou, China. Biological Conservation 87:13-19.

Hedin, S. 1903. Central Asia and Tibet. 2 vols. Hurst and Blackett, London.

Hedin, S. [1922]. 1991. Southern Tibet. Vols. 3 and 4. Reprinted by B. R. Publ. Corp., Delhi.

IFAW-WTI (International Fund for Animal Welfare and Wildlife Trust of India). 2001. Wrap up the trade: An international campaign to save the endangered Tibetan antelope. 79 pp.

IFAW 2005. Poaching remains main threat to Tibetan antelope. http://www.ifaw.org/ifaw/general/default.aspx?oid=139700.

Liu, J. 1999. China resolves to end chiru poaching. China Daily, June 30, 1999.

Los Angeles Times. 2002. Progress hems in nomadic herders of Tibet. August 10, 2002.

Miller, D. J. 1997. A photo essay of Himalayan and Tibetan pastoralism. In: Rangelands and pastoral development in the Hindu Kush-Himalayas. International Centre for Integrated Mountain Development, Kathmandu.

Miller, D. J. 2000. Tough times for Tibetan nomads in Western China: Snowstorms, settling down, fences, and the demise of traditional nomadic pastoralism. Nomadic Peoples 4(1):83-109.

Miller, D. J. 2001. Poverty among Tibetan nomads in western China: Profiles of poverty and strategies for poverty reduction. Paper prepared for Tibet Development Symposium, May 4-6, 2001, Brandeis University.

Miller, D. J. 2002. The importance of China's nomads. Rangelands 24(1):22-24.

Miller, D. J., and G. B. Schaller. 1997. Conservation threats to the Chang Tang wildlife reserve, Tibet. Ambio 26(3).

People's Daily. 2002. Railway construction makes way for rare antelope. August 7, 2002.

Rawling, C. 1905. The great plateau. Edward Arnold, London.

Ridgeway, R. 2003. 275 miles on foot through the remote Chang Tang. National Geographic Magazine 203:104-125.

Schaller, G. B. 1993. In a high and sacred realm. National Geographic Magazine 184.

Schaller, G. B. 1998. Wildlife of the Tibetan steppe. The University of Chicago Press, Chicago. 373 pp.

Schaller, G. B. 1999. Natural history of Tibetan antelope. 1999 International Workshop on Conservation and Control of Trade in Tibetan Antelope, Xining, China. October 1999.

Schaller, G. B., and B. Gu. 1994. Comparative ecology of ungulates in the Aru Basin of northwest Tibet. National Geographic Research and Exploration 10:266-293.

Sellar, J. M. 2003. Opening address. Proceedings of Workshop on Enforcement of Tibetan Antelope. CITES, Geneva.

SFA (State Forestry Administration). 1998. Conservation status of the Tibet antelope. China State Forestry Administration. December 1998. 4 pp.

USEC (United States Embassy China). 1996. Gold mining in China: Taming the wild west. http://www.usembassy-china.org.cn/english/sandt/goldw.htm.

Wilson, D. E., and D. M. Reeder. 1993. Mammal species of the world: A taxonomic and geographic reference. 2nd ed. Smithsonian Institution Press, Washington, DC. 1206 pp.

WPSI News (Wildlife Protection Society of India). 2002. 80 shahtoosh shawls seized in Delhi. March 18, 2002.

Wright, B., and A. Kumar. 1997. Fashioned for extinction: An expose of the shahtoosh trade. Wildlife Protection Society of India, New Delhi. 48 pp.

Xinhua. 1998. Tibet punishes poachers. October 28, 1998.

Xinhuanet. 2002a. Railway suspended for Tibetan antelope migration. June 26, 2002.

Xinhuanet. 2002b. China curbs poaching of Tibetan antelopes. October 29, 2002.

Xinhuanet. 2002c. Extinction of Tibetan antelopes very possible if poaching persists: expert. August 19, 2002.

Zhen, R. 2000. For future of [the] Tibetan antelope: Proceedings of the 1999 International Workshop on Conservation and Control of Trade in Tibetan Antelope held in Xining, China in October, 1999. 147 pp.

Author

The primary author of this notice is Michael Kreger, Ph.D., Division of Scientific Authority, U.S. Fish and Wildlife Service (see ADDRESSES section; telephone 703-358-1708).

List of Subjects in 50 CFR Part 17

Endangered and threatened species, Exports, Imports, Reporting and recordkeeping requirements, Transportation.

Regulation Promulgation

Accordingly, we amend part 17, subchapter B of chapter I, title 50 of the Code of Federal Regulations, as follows:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. Amend § 17.11(h) by adding the following, in alphabetical order under Mammals, to the List of Endangered and Threatened Wildlife:

§ 17.11 Endangered and threatened wildlife.

* * * * *

(h) * * *

Species: Common name | Species: Scientific name | Historic range | Vertebrate population where endangered or threatened | Status | When listed | Critical habitat | Special rules
Mammals
* * * * * * *
Antelope, Tibetan | Panthalops hodgsonii | China, India, Nepal | Entire | E |  | NA
* * * * * * *

Dated: March 23, 2006.
Marshall P. Jones, Jr.,
Deputy Director, Fish and Wildlife Service.

[FR Doc. 06-3034 Filed 3-28-06; 8:45 am]

BILLING CODE 4310-55-P